DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by July 29, 2004.

Title, Forms, and OMB Number: Dependency Statements: Parent, Child Born Out of Wedlock, Incapacitated Child Over Age 21, Full Time Student 21-22 Years of Age, and Ward of a Court; DD Forms 137-3, 137-4, 137-5, 137-6, 137-7, OMB Number 0730-0014.

Type of Request: Reinstatement.

Number of Respondents: 19,440.

Responses Per Respondent: 1.

Annual Responses: 19,440.

Average Burden Per Response: 1.25 hours.

Annual Burden Hours: 24,300.

Needs and Uses: This information collection is used to certify dependency or obtain information to determine entitlement to basic allowance for housing with dependent rate, travel allowance, or Uniformed Services Identification and Privilege Card. Information regarding the particular dependent situation is provided by the military member or by another individual who may be a member of the public. DoDFMR 7000.14, Vol.7A defines dependency and directs that dependency be proven. Dependency claim examiners use the information from the forms to determine the degree of benefits. The requirements to provide the information decreases the possibility of monetary allowances being approved on behalf of ineligible dependents.

Affected Public: Individuals or households.

Frequency: On occasion and annually.

Respondent's Obligation: Required to obtain or retain benefits.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Mr. Rober Cushing.

Written requests for copies of the information collection proposal should be sent to Mr. Cushing, WHS/ESCD/Information Management Division, 1225 South Clark Street, Suite 504, Arlington, VA 22202-4326.

Dated: June 23, 2004.
L.M. Bynum,
Alternate OSD Federal Register, Liaison Officer, Department of Defense.

:

[FR Doc. 04-14648 Filed 6-28-04; 8:45 am]

BILLING CODE 5001-06-M